DEPARTMENT OF TRANSPORTATION

Federal Aviation Administration

14 CFR Part 39

[Docket No. 2002-NM-166-AD; Amendment 39-12845; AD 2002-16-06]

RIN 2120-AA64

Airworthiness Directives; Empresa Brasileira de Aeronautica S.A. (EMBRAER) Model EMB-135 and -145 Series Airplanes

AGENCY: Federal Aviation Administration, DOT.

ACTION: Final rule; request for comments.

SUMMARY: This amendment adopts a new airworthiness directive (AD) that is applicable to certain EMBRAER Model EMB-135 and -145 series airplanes. This action requires determining whether a defective auxiliary power unit (APU) exhaust silencer is installed on the airplane; and corrective actions, if necessary. This action is necessary to prevent separation of the aft baffle assembly from the APU exhaust silencer and consequent separation of the assembly from the airplane, which could cause damage to other airplanes during takeoff and landing operations, or injury to people on the ground. This action is intended to address the identified unsafe condition.

DATES: Effective August 27, 2002.

The incorporation by reference of certain publications listed in the regulations is approved by the Director of the Federal Register as of August 27, 2002.

Comments for inclusion in the Rules Docket must be received on or before September 11, 2002.

ADDRESSES: Submit comments in triplicate to the Federal Aviation Administration (FAA), Transport Airplane Directorate, ANM-114, Attention: Rules Docket No. 2002-NM-166-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2002-NM-166-AD” in the subject line and need not be submitted in triplicate. Comments sent via fax or the Internet as attached electronic files must be formatted in Microsoft Word 97 for Windows or ASCII text.

The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: The Departmento de Aviacao Civil (DAC), which is the airworthiness authority for Brazil, notified the FAA that an unsafe condition may exist on certain EMBRAER Model EMB-135 and -145 series airplanes. The DAC advises that one report indicated that the aft baffle assembly separated from the shell assembly of auxiliary power unit (APU) exhaust silencer, part number 4503801B. This separation was caused by the poor quality of some spot welds used in the aft joint of the APU exhaust silencer. This condition, if not corrected, could result in consequent separation of the aft baffle assembly from the airplane, which could cause damage to other airplanes during takeoff and landing operations, or injury to people on the ground.

Explanation of Relevant Service Information

EMBRAER has issued Alert Service Bulletin 145-49-A021, Change 01, dated May 13, 2002, which describes procedures for determining whether a defective APU exhaust silencer is installed on the airplane; and corrective actions, if necessary. If a defective APU exhaust silencer is found installed, corrective actions include reinforcing the spot welds on the exhaust silencer assembly with fasteners to ensure that the components are secure. Accomplishment of the action specified in the service bulletin is intended to adequately address the identified unsafe condition.

The EMBRAER service bulletin references Hamilton Sundstrand ASB-4503801-49-2, Revision 01, dated May 13, 2002, as a secondary source of information for the corrective actions required by this AD.

The DAC classified the EMBRAER service bulletin as mandatory and issued Brazilian airworthiness directive 2002-05-01, dated May 17, 2002, in order to assure the continued airworthiness of these airplanes in Brazil.

FAA's Conclusions

These airplane models are manufactured in Brazil and are type certificated for operation in the United States under the provisions of § 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Rule

Since an unsafe condition has been identified that is likely to exist or develop on other airplanes of the same type design registered in the United States, this AD is being issued to prevent separation of the aft baffle assembly from the APU exhaust silencer and consequent separation of the assembly from the airplane, which could cause damage to other airplanes during takeoff and landing operations, or injury to people on the ground. This AD requires determining whether a defective exhaust silencer for the auxiliary power unit is installed on the airplane; and corrective actions, if necessary. The actions are required to be accomplished in accordance with the EMBRAER service bulletin described previously, except as discussed below.

Difference Between the Service Bulletin/Brazilian Airworthiness Directive and This AD

Operators should note that the EMBRAER service bulletin and Brazilian airworthiness directive specify certain serial numbers and airplanes on which the APU cowling was replaced during maintenance between January and April 2002. Regarding the specified dates, we contacted the Brazilian airworthiness authorities about why the applicability was limited to certain dates, and whether there was a change in maintenance practices after April 2002 that would prevent the installation of a defective APU exhaust silencer. In response, we were informed that no change was made to the maintenance practices after April 2002. For that reason, we cannot be sure that a defective assembly was not installed after that date. Therefore, the applicability of this AD also includes those airplanes on which the APU cowling has been replaced between January 1, 2002, and the effective date of this AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-166-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-06 Empresa Brasileira de Aeronautica S.A. (EMBRAER): Amendment 39-12845. Docket 2002-NM-166-AD.

Applicability: Model EMB-135 and -145 series airplanes, certificated in any category; having the serial numbers listed in the table below; and those airplanes on which the auxiliary power unit (APU) cowling has been replaced between January 1, 2002, and the effective date of this AD:

Table.—Airplane Serial Numbers
145003 | 145149 | 145292 | 145311
145005 | 145151 | 145295 | 145318
145009 | 145159 | 145296 | 145323
145011 | 145238 | 145298 | 145562 through 145572 inclusive.
145110 | 145267 | 145302 | 145574 through 145585 inclusive.
145123 | 145269 | 145303 | 145587
145125 | 145274 | 145307 | 145588
145131 | 145281 | 145309

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent separation of the aft baffle assembly from the APU exhaust silencer and consequent separation of the assembly from the airplane, which could cause damage to other airplanes during takeoff and landing operations, or injury to people on the ground, accomplish the following:

Inspection and Corrective Actions

(a) Within 50 flight hours after the effective date of this AD, inspect the APU exhaust silencer to determine whether part number (P/N) 4503801B, serial number L01-0314 through L01-0326 inclusive, and serial number M01-0327 through N01-0336 inclusive, is installed on the airplane; per the Accomplishment Instructions of EMBRAER Alert Service Bulletin 145-49-A021, Change 01, dated May 13, 2002.

(1) If the APU exhaust silencer identified in paragraph (a) of this AD is not found installed, no further action is required by this paragraph.

(2) If the APU exhaust silencer identified in paragraph (a) of this AD is found installed, before further flight, do the corrective actions (including reinforcing the spot welds on the exhaust silencer assembly with fasteners to ensure that the components are secure) per the EMBRAER service bulletin.

Note 2: EMBRAER Alert Service Bulletin No. 145-49-A021, Change 01, dated May 13, 2002, references Hamilton Sundstrand ASB-4503801-49-2, Revision 01, dated May 13, 2002, as an additional source of information for the inspection and corrective actions required by this AD.

Spares

(b) As of the effective date of this AD, no person shall install on any airplane an APU exhaust silencer, part number 4503801B, serial numbers L01-0314 through L01-0326 inclusive, and M01-0327 through M01-0336 inclusive, unless it has been modified in accordance with the requirements of paragraph (a)(2) of this AD.

Alternative Methods of Compliance

(c) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with EMBRAER Alert Service Bulletin 145-49-A021, Change 01, dated May 13, 2002. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the Office of the Federal Register, 800 North Capitol Street, NW., suite 700, Washington, DC.

Note 4: The subject of this AD is addressed in Brazilian airworthiness directive 2002-05-01, dated May 17, 2002.

Effective Date

(f) This amendment becomes effective on August 27, 2002.

Issued in Renton, Washington, on August 1, 2002.
Vi Lipski,
Manager, Transport Airplane Directorate, Aircraft Certification Service.

[FR Doc. 02-20017 Filed 8-9-02; 8:45 am]

BILLING CODE 4910-13-P